DEPARTMENT OF THE TREASURY

Federal Law Enforcement Training Center

Privacy Act of 1974; Systems of Records

AGENCY: Federal Law Enforcement Training Center, Treasury.

ACTION: Notice of systems of records.

SUMMARY: In accordance with the requirements of the Privacy Act of 1974, as amended, 5 U.S.C. 552a, the Federal Law Enforcement Training Center (FLETC), Treasury, is publishing its Privacy Act systems of records.

SUPPLEMENTARY INFORMATION: Pursuant to the Privacy Act of 1974 (5 U.S.C. 552a) and the Office of Management and Budget (OMB), Circular No. A-130, the FLETC has completed a review of its Privacy Act systems of records notices to identify changes that will more accurately describe these records.

The three systems of records have been revised by updating the language describing the storage of the data to read “Various electronic media and paper files.” In addition, the description of the retention and disposal procedures for each system of records has been updated.

Systems Covered by This Notice

This notice covers all systems of records adopted by FLETC up to June 1, 2001. The systems notices are reprinted in their entirety following the Table of Contents.

Dated: August 7, 2001.
W. Earl Wright, Jr.,
Chief Management and Administrative Programs Officer.

Table of Contents

FLETC .001-FLETC Payroll/Personnel Records System

FLETC .002-FLETC Trainee Records

FLETC .004-FLETC Administrative Employee Records

Federal Law Enforcement Training Center

Treasury/FLETC.001

SYSTEM NAME:

FLETC Payroll/Personnel Records System—Treasury/FLETC.

SYSTEM LOCATION:

FLETC, Office of Planning and Resources, Building 94, Glynco, GA 31524. Systems are also located at other FLETC facilities. (See FLETC Appendix A for addresses.)

CATEGORIES OF INDIVIDUALS COVERED BY THE SYSTEM:

Present and former employees.

CATEGORIES OF RECORDS IN THE SYSTEM:

All payroll records including Standard Forms 50 and 52, time and attendance reports, leave status, health and life insurance requests, payroll deduction requests, employee training, performance evaluations, retirement records, medical/treatment/injury records, and Equal Employment Opportunity and personnel records consisting of records other than those described and reported by the Office of Personnel Management on behalf of all agencies.

AUTHORITY FOR MAINTENANCE OF THE SYSTEM:

5 U.S.C. 301, 5 U.S.C. 4101 et seq; Executive Order No. 11348, dated April 20, 1967, and Treasury Order 140-01, dated September 20, 1994.

ROUTINE USES OF RECORDS MAINTAINED IN THE SYSTEM, INCLUDING CATEGORIES OF USERS AND THE PURPOSES OF SUCH USES:

Disclosure to the individual's parent agency and Federal regulatory agencies on a “need to know” basis which include the Department of Labor, Department of Health and Human Services, Merit Systems Protection Board, Federal and Labor Relations Authority, Equal Employment Opportunity Commission and the Office of Personnel Management concerning pay, leave, benefits, retirement deductions, and other information necessary for OPM to carry out its government-wide personnel management functions.

THESE RECORDS AND INFORMATION IN THE RECORDS MAY BE USED TO:

(1) Disclose pertinent information to appropriate Federal, State, local or foreign agencies responsible for investigating or prosecuting the violations of, or for enforcing or implementing, a statute, rule, regulation, order, or indication of a violation or potential violation of civil or criminal law or regulation; (2) disclose information to a Federal, State, or local agency, maintaining civil, criminal or other relevant enforcement information or other pertinent information, which has requested information relevant to or necessary to the requesting agency's or the bureau's hiring or retention of an individual or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceeding; (4) disclose information to foreign governments in accordance with formal or informal international agreements; (5) provide information to a congressional office in response to an inquiry made at the request of the individual to whom the record pertains; (6) provide information to the news media in accordance with guidelines contained in 28 CFR 50.2 which relate to an agency's functions relating to civil and criminal proceedings; (7) provide information to unions recognized as exclusive bargaining representatives under the Civil Service Reform Act of 1978, 5 U.S.C. 7111 and 7114; (8) provide information to third parties during the course of an investigation to the extent necessary to obtain information pertinent to the investigation.

POLICIES AND PRACTICES FOR STORING, RETRIEVING, ACCESSING, RETAINING, DISPOSING OF RECORDS IN THE SYSTEM:

STORAGE:

Various electronic media and paper files.

RETRIEVABILITY:

Social Security Number, name, position, and/or organizational element.

SAFEGUARDS:

Physical security, personal access codes, and identification confirmations are all used to prevent unauthorized disclosure of records.

RETENTION AND DISPOSAL:

Disposition as described by General Records Schedules 1 and 2 issued by the National Archives and Records Administration. For more information contact: Records Management Officer, FLETC, OIM/ISD/IRM, Townhouse 389-C, Glynco, GA 31524.

SYSTEM MANAGER(S) AND ADDRESS:

Associate Director for Planning and Resources, Building 94, FLETC, Glynco, GA 31524.

NOTIFICATION PROCEDURE:

The individual must provide full name, Social Security Number, and date of employment at the FLETC to the System Manager.

RECORD ACCESS PROCEDURES:

By written request to the System Manager.

CONTESTING RECORD PROCEDURES:

See “Record access” above.

RECORD SOURCE CATEGORIES:

The employee on whom the record is maintained, prior employers, client agencies and the FLETC.

EXEMPTIONS CLAIMED FOR THE SYSTEM:

None.

Treasury/FLETC.002

SYSTEM NAME:

FLETC Trainee Records—Treasury/FLETC.

SYSTEM LOCATION:

FLETC, Office of Planning and Resources, Building 94, Glynco, GA 31524, and at the FLETC facility located in Artesia, NM. (See FLETC Appendix A for addresses.)

CATEGORIES OF INDIVIDUALS COVERED BY THE SYSTEM:

Any person who officially attends a FLETC-sponsored Training Program, Symposium, or similar event.

CATEGORIES OF RECORDS IN THE SYSTEM:

Personal background information supplied by the trainee; grades and performance or conduct evaluations, advisory letters to parent agencies, class rosters/photographs and relevant health/physical conditioning.

AUTHORITY FOR MAINTENANCE OF THE SYSTEM:

Treasury Order 140-01, dated September 20, 1993, and Memorandum of Understanding for the Sponsorship and Operation of the Consolidated Federal Law Enforcement Training Center, dated September 30, 1970.

ROUTINE USES OF RECORDS MAINTAINED IN THE SYSTEM, INCLUDING CATEGORIES OF USERS AND THE PURPOSES OF SUCH USES:

Disclosure upon request to the individual's parent agency, to a prospective Federal employer, and to other government officials involved in training or research.

THESE RECORDS AND INFORMATION IN THE RECORDS MAY BE USED TO:

(1) Disclose to the Office of Personnel Management concerning pay, leave, benefits, retirement deductions, and other information necessary for OPM to carry out its government-wide personnel management functions; (2) disclose pertinent information to appropriate Federal, state, local or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) disclose information to foreign governments in accordance with formal or informal international agreements; (6) provide information to a congressional office in response to an inquiry made at the request of the individual to whom the record pertains; (7) provide information to the news media in accordance with guidelines contained in 28 CFR 50.2 which relate to an agency's functions relating to civil and criminal proceedings; (8) provide information to unions recognized as exclusive bargaining representatives under the Civil Service Reform Act of 1978, 5 U.S.C. 7111 and 7114; (9) provide information to third parties during the course of an investigation to the extent necessary to obtain information pertinent to the investigation.

POLICIES AND PRACTICES FOR STORING, RETRIEVING, ACCESSING, RETAINING, DISPOSING OF RECORDS IN THE SYSTEM:

STORAGE:

Various electronic media and paper files.

RETRIEVABILITY:

Name, class number, and Social Security Number.

SAFEGUARDS:

Access to these systems of records will be controlled by software, hardware, and other physical security procedures. Software will be used to ensure, in all technically feasible ways, that data cannot be made available to unauthorized persons. User-identifiers and passwords will be used where feasible to protect the data. Physical security will protect all terminals, disks and tapes, and paper archives from access by unauthorized persons. Offices will be locked except when authorized persons are present. Warehoused paper records are secured, the building alarmed, and access controlled by the Records Management Officer.

RETENTION AND DISPOSAL:

Records are retained at the FLETC for 40 years in accordance with a National Archives and Records Administration-approved disposition authority. Records are then destroyed by shredding or burning. For more information contact: Records Management Officer, FLETC, OIM/ISD/IRM, Townhouse 389-C, Glynco, GA 31524.

SYSTEM MANAGER(S) AND ADDRESS:

Associate Director for Planning and Resources, Building 94, FLETC, Glynco, GA 31524.

NOTIFICATION PROCEDURE:

The individual must provide full name, proof of identity, Social Security Number, date of birth, parent agency, type of course and approximate dates of attendance to the System Manager.

RECORD ACCESS PROCEDURES:

By formal letter to the System Manager.

CONTESTING RECORDS PROCEDURES:

See “Record access procedures” above.

RECORD SOURCE CATEGORIES:

The trainee himself and members of the staff responsible for the administrative processing and training of that individual.

EXEMPTIONS CLAIMED FOR THE SYSTEM:

None.

Treasury/FLETC.004

SYSTEM NAME:

FLETC Administrative Records-Treasury/FLETC.

SYSTEM LOCATION:

FLETC, Office of Planning and Resources, Building 94, Glynco, GA 31524, and at the FLETC facilities located in Artesia, NM. (See FLETC Appendix A for addresses.)

CATEGORIES OF INDIVIDUALS COVERED BY THE SYSTEM:

Students, current employees, past employees, employees of client agencies, contractor employees, guests, and visiting personnel.

CATEGORIES OF RECORDS IN THE SYSTEM:

Access Control/ Identification, Vehicle Registration and Driver Violation, Equipment Control, Property Pass/Accountability, Lost and Found, Key Assignment, Safety and Occupational Health Program, Security Incident, Emergency Services, Administrative Inquiry, Instructor Management records and Resource and Marketing Mailing Lists.

AUTHORITY FOR THE MAINTENANCE OF THE SYSTEM:

Treasury Order 140-01, dated September 20, 1994.

ROUTINE USES OF RECORDS MAINTAINED IN THE SYSTEM, INCLUDING CATEGORIES OF USERS AND PURPOSES OF SUCH USES:

Disclosure to the contract employer, the individual's parent agency, and Federal regulatory agencies on a “need to know” basis.

These records and information in the records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) disclose information to foreign governments in accordance with formal or informal international agreements; (5) provide information to a congressional office in response to an inquiry made at the request of the individual to whom the record pertains; (6) provide information to the news media in accordance with guidelines contained in 28 CFR 50.2 which relate to an agency's functions relating to civil and criminal proceedings; (7) provide information to unions recognized as exclusive bargaining representatives under the Civil Service Reform Act of 1978, 5 U.S.C. 7111 and 7114; (8) provide information to third parties during the course of an investigation to the extent necessary to obtain information pertinent to the investigation.

POLICIES AND PRACTICES FOR STORING, RETRIEVING, ACCESSING, RETAINING, DISPOSING OF RECORDS IN THE SYSTEM:

STORAGE:

Various electronic media and paper files.

RETRIEVABILITY:

Name, Social Security Number, Employer, and/or Organizational Element.

SAFEGUARDS:

Physical security, personnel screening and computer passwords are all used to prevent unauthorized disclosure of records.

RETENTION AND DISPOSAL:

Disposition as described by the General Records Schedule issued by the National Archives and Records Administration. For more information contact: Records Management Officer, FLETC, OIM/ISD/IRM, Townhouse 389-C, Glynco, GA 31524.

SYSTEM MANAGER(s) AND ADDRESS:

Associate Director for Planning and Resources, Building 94, FLETC, Glynco, GA 31524.

NOTIFICATION PROCEDURE:

The individual must provide full name, proof of identity, social security number, and dates of duty at the Center to the System Manager.

RECORD ACCESS PROCEDURES:

By written request to the System Manager.

CONTESTING RECORD PROCEDURES:

See “Record access procedures” above.

RECORD SOURCE CATEGORIES:

The individual on whom the record is maintained, client agencies, employers, and the FLETC.

EXEMPTIONS CLAIMED FOR THE SYSTEM:

None.

FLETC Appendix A

Federal Law Enforcement Training Center, Glynco, GA 31524.

Federal Law Enforcement Training Center, Washington Office, 650 Massachusetts Avenue, NW., Washington, DC 20226.

Federal Law Enforcement Training Center, Artesia Facility, 1300 W. Richey Avenue, Artesia, NM 88210.

[FR Doc. 01-20946 Filed 8-20-01; 8:45 am]

BILLING CODE 4810-32-P